DEPARTMENT OF THE INTERIOR

Bureau of Land Management

[ CO-01-134-1220-AL-241A]

Notice of Public Meetings, McInnis Canyons National Conservation Area Advisory Council Meeting

AGENCY: Bureau of Land Management, Interior.

ACTION: Notice of meetings.

SUMMARY: The McInnis Canyons National Conservation Area (MCNCA) Advisory Council will hold two meetings, scheduled on March 20, 2008 and September 18, 2008. The meetings will begin at 4 p.m. and will be held at the Mesa County Administration Building; 544 Rood Avenue, Grand Junction, CO.

DATES: The meetings will be held on March 20, 2008 and September 18, 2008.

ADDRESSES: For further information or to provide written comments, please contact the Bureau of Land Management (BLM), 2815 H Road, Grand Junction, Colorado 81506; (970) 244-3000.

SUPPLEMENTARY INFORMATION: The McInnis Canyons National Conservation Area was established on October 24, 2000 when the President signed the Colorado Canyons National Conservation Area and Black Ridge Wilderness Act of 2000 (Act). The Act required that an Advisory Council be established to provide advice in the preparation and implementation of the Resource Management Plan. The NCA name was congressionally changed at the end of 2004 from Colorado Canyons National Conservation Area to McInnis Canyons National Conservation Area (MCNCA).

The MCNCA Advisory Council will meet on Thursday, March 20, 2008 and Thursday, September 18, 2008, at the Mesa County Administration Building, 544 Rood Avenue, Grand Junction, Colorado, beginning at 4 p.m. The agenda topics for the March meeting are:

(1) Report on River Management program.

(2) Camping in Rabbit Valley.

(3) Managers Update.

(4) Advisory Council field trip schedules.

(5) Public Comment period.

Topics pertaining to all other meetings will be similar in nature. All meetings will be open to the public and will include a time set aside for public comment. Interested persons may make oral statements at the meetings or submit written statements at any meeting. Per-person time limits for oral statements may be set to allow all interested persons an opportunity to speak. Summary minutes of all Council meetings will be maintained at the Bureau of Land Management Office in Grand Junction, Colorado. They are available for public inspection and reproduction during regular business hours within thirty (30) days following the meeting. In addition, minutes and other information concerning the MCNCA Advisory Council can be obtained from the MCNCA Web site at: http://www.co.blm.gov/mcnca/index.htm., which will be updated following each Advisory Council meeting.

Dated: February 22, 2008.
Paul H. Peck,
Manager, McInnis Canyons National Conservation Area.

[FR Doc. E8-3775 Filed 2-27-08; 8:45 am]

BILLING CODE 4310-JB-P